DEPARTMENT OF COMMERCE

International Trade Administration

[A-583-814]

Certain Circular Welded Non-Alloy Steel Pipe From Taiwan: Final Results of Administrative Review and Determination of No Shipments; 2017-2018

AGENCY: Enforcement and Compliance, International Trade Administration, Department of Commerce.

SUMMARY: The Department of Commerce (Commerce) determines that there were no shipments of subject merchandise during the period of review (POR) November 1, 2017 through October 31, 2018.

DATES: Applicable April 13, 2020.

FOR FURTHER INFORMATION CONTACT: Chelsey Simonovich, AD/CVD Operations, Office VI, Enforcement and Compliance, International Trade Administration, U.S. Department of Commerce, 1401 Constitution Avenue NW, Washington, DC 20230; telephone: (202) 482-1979.

SUPPLEMENTARY INFORMATION:

Background

Commerce published the Preliminary Results on December 27, 2019.¹ Interested parties were asked to comment within 30 days of the date of publication. We received no comments.

¹ See Certain Circular Welded Non-Alloy Steel Pipe from Taiwan: Preliminary Determination of No Shipments; 2017-2018, 84 FR 71367 (December 27, 2019) (Preliminary Results).

Scope of the Order

The products covered by the order are circular welded pipe from Taiwan. For a complete description of the scope of the order, see the Appendix to this notice.

Final Determination of No Shipments

In the Preliminary Results, we found that Founder Land, Shin Yang Steel Co., Ltd. (Shin Yang), Tension Steel Enterprise Co., Ltd. (Tension Steel), Yieh Hsing Enterprise Co., Ltd. (Yieh Hsing), and Yieh Phui Enterprise Co., Ltd. (Yieh Phui) had no shipments of the subject merchandise to the United States during the POR. Also, in the Preliminary Results, we stated that consistent with our practice, it was not appropriate to rescind the review, but rather to complete the review and issue appropriate instructions to Customs and Border Protection (CBP) based on the final results of this review.²

² Id., 84 FR at 71368; see, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

After issuing the Preliminary Results, we received no information that contradicted our Preliminary Results. No interested party commented on the Preliminary Results. Therefore, for these final results, we continue to find that Founder Land, Shin Yang, Tension Steel, Yieh Hsing, and Yieh Phui had no shipments of the subject merchandise to the United States during the POR.

Assessment Rates

Commerce determines, and CBP shall assess, antidumping duties on all appropriate entries of subject merchandise in accordance with these final results of review.³ Consistent with Commerce's clarification to its assessment practice, because we determined that Founder Land, Shin Yang, Tension Steel, Yieh Hsing, and Yieh Phui had no shipments of subject merchandise to the United States during the POR, for entries of subject merchandise during the POR produced by Founder Land, Shin Yang, Tension Steel, Yieh Hsing, or Yieh Phui, for which these companies did not know that the merchandise was destined for the United States, we will instruct CBP to liquidate any entries at the all-others rate if there is no rate for the intermediate company(ies) involved in the transaction.⁴

³ See 19 CFR 351.212(b).

⁴ For a full discussion, see Antidumping and Countervailing Duty Proceedings: Assessment of Antidumping Duties, 68 FR 23954 (May 6, 2003).

We intend to issue instructions to CBP 15 days after the date of publication of the final results of this review.

Cash Deposit Requirements

The following deposit requirements will be effective for all shipments of the subject merchandise entered, or withdrawn from warehouse, for consumption on or after the publication date of the final results of this administrative review, as provided by section 751(a)(2)(C) of the Act: (1) The cash deposit rates for Founder Land, Shun Yang, Tension Steel, Yieh Hsing, and Yieh Phui will remain unchanged from the rate assigned to them in the most recently completed review of those companies; (2) for merchandise exported by manufacturers or exporters not covered in this review but covered in a prior segment of the proceeding, the cash deposit rate will continue to be the company-specific rate published for the most recently-completed segment; (3) if the exporter is not a firm covered in this review, a prior review, or the original investigation, but the manufacturer is, then the cash deposit rate will be the rate established for the most recently completed segment for the manufacturer of the merchandise; and (4) the cash deposit rate for all other manufacturers or exporters will continue to be 23.56 percent, the all-others rate established in the less-than-fair-value investigation.⁵ These cash deposit requirements, when imposed, shall remain in effect until further notice.

⁵ See Notice of Antidumping Duty Order: Circular Welded Non-Alloy Steel Pipe from Taiwan, 57 FR 49454 (November 2, 1992).

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act and 19 CFR 351.221(b)(5).

Dated: April 7, 2020.
Jeffrey I. Kessler,
Assistant Secretary for Enforcement and Compliance.

Appendix

Scope of the Order

The products covered by this order are (1) circular welded non-alloy steel pipes and tubes, of circular cross section over 114.3 millimeters (4.5 inches), but not over 406.4 millimeters (16 inches) in outside diameter, with a wall thickness of 1.65 millimeters (0.065 inches) or more, regardless of surface finish (black, galvanized, or painted), or end-finish (plain end, beveled end, threaded, or threaded and coupled); and (2) circular welded non-alloy steel pipes and tubes, of circular cross-section less than 406.4 millimeters (16 inches), with a wall thickness of less than 1.65 millimeters (0.065 inches), regardless of surface finish (black, galvanized, or painted) or end-finish (plain end, beveled end, threaded, or threaded and coupled). These pipes and tubes are generally known as standard pipes and tubes and are intended for the low pressure conveyance of water, steam, natural gas, air, and other liquids and gases in plumbing and heating systems, air conditioning units, automatic sprinkling systems, and other related uses, and generally meet ASTM A-53 specifications. Standard pipe may also be used for light load-bearing applications, such as for fence-tubing and as structural pipe tubing used for framing and support members for construction, or load-bearing purposes in the construction, shipbuilding, trucking, farm-equipment, and related industries. Unfinished conduit pipe is also b18included in this order.

All carbon steel pipes and tubes within the physical description outlined above are included within the scope of this order, except line pipe, oil country tubular goods, boiler tubing, mechanical tubing, pipe and tube hollows for redraws, finished scaffolding, and finished conduit. Standard pipe that is dual or triple certified/stenciled that enters the U.S. as line pipe of a kind or used for oil and gas pipelines is also not included in this investigation.

Imports of the products covered by this order are currently classifiable under the following Harmonized Tariff Schedule (HTS) subheadings, 7306.30.10.00, 7306.30.50.25, 7306.30.50.32, 7306.30.50.40, 7306.30.50.55, 7306.30.50.85, 7306.30.50.90. Although the HTS subheadings are provided for convenience and customs purposes, our written description of the scope of this order is dispositive.

[FR Doc. 2020-07716 Filed 4-10-20; 8:45 am]

BILLING CODE 3510-DS-P